DEPARTMENT OF THE INTERIOR

Bureau of Indian Affairs

25 CFR Part 124

RIN 1076-AE74

Deposit of Proceeds From Lands Withdrawn for Native Selection; Correction

AGENCY: Bureau of Indian Affairs, Interior.

ACTION: Final rule; correction.

SUMMARY: This document contains a correction to a final rule that was published Thursday, July 14, 2005 (70 FR 40660). The regulation relates to Deposit of Proceeds from Lands Withdrawn for Native Selection.

EFFECTIVE DATE: July 14, 2005.

FOR FURTHER INFORMATION CONTACT: Assistant Director, Office of Trust Regulations, Policies and Procedures, by telephone at (505) 816-1086, or by facsimile transmission at (505) 816-1377.

SUPPLEMENTARY INFORMATION: This rule is published by the authority of the Secretary, granted under 43 U.S.C. 1601 et seq. and 25 U.S.C. 4001 et seq., and delegated to the Assistant Secretary—Indian Affairs 209 DM 8.1.

Background

The final rule provides contact information to be used by all Departments and Agencies, the State of Alaska, and any other interested parties for deposit of proceeds from lands withdrawn for native selection. This rule was published by the Assistant Secretary—Indian Affairs in consultation with the Special Trustee for American Indians under the provisions of the American Indian Trust Fund Management Reform Act of 1994.

Need for Correction

As published, the final rule was introduced by words of issuance that do not satisfy Office of the Federal Register standards. The language must be corrected to allow for correct codification of the revised regulation.

Correction of Publication

Accordingly, the publication on July 14, 2005, of the final rule that was the subject of FR Doc. 05-13891, is corrected as follows:

On page 40660, in the second column, immediately following the name and title of the document's signer, in the words of issuance, the word “amended” is corrected read “revised.”

Dated: July 15, 2005.
James E. Cason,
Associate Deputy Secretary of the Interior.

[FR Doc. 05-14437 Filed 7-20-05; 8:45 am]

BILLING CODE 4310-2W-P